DEPARTMENT OF HOMELAND SECURITY

U.S. Customs and Border Protection

DEPARTMENT OF THE TREASURY

19 CFR Part 111

Customs Brokers

CFR Correction

In Title 19 of the Code of Federal Regulations, Parts 0 to 140, revised as of April 1, 2013, on page 684, in § 111.13, in paragraph (b), reinstate the second sentence to read as follows:

§ 111.13 Written examination for individual license.

* * * * *

(b) * * * Written examinations will be given on the first Monday in April and October unless the regularly scheduled examination date conflicts with a national holiday, religious observance, or other foreseeable event and the agency publishes in the Federal Register an appropriate notice of a change in the examination date. * * *

* * * * *

[FR Doc. 2013-16653 Filed 7-9-13; 8:45 am]

BILLING CODE 1505-01-D